FEDERAL DEPOSIT INSURANCE CORPORATION

[OMB No. 3064-0092]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collection described below (OMB Control No. 3064-0092).

DATES: Comments must be submitted on or before September 28, 2020.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW, building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Community Reinvestment Act.

OMB Number: 3064-0092.

Form Number: None.

Affected Public: Insured state nonmember banks and state savings associations.

Burden Estimate
Source and type of burden | Description | Estimated number of respondents | Average estimated time per response | Total estimated annual burden
345.25(b) Reporting | Request for designation as a wholesale or limited purpose bank—Banks requesting this designation shall file a request in writing with the FDIC at least 3 months prior to the proposed effective date of the designation | 1 | 4 | 4
345.27 Reporting | Strategic plan—Applies to banks electing to submit strategic plans to the FDIC for approval | 10 | 400 | 4,000
345.42(b)(1) Reporting | Small business/small farm loan data—Large banks shall and Small banks may report annually in machine readable form the aggregate number and amount of certain loans | 277 | 8 | 2,216
345.42(b)(2) Reporting | Community development loan data—Large banks shall and Small banks may report annually, in machine readable form, the aggregate number and aggregate amount of community development loans originated or purchased | 277 | 13 | 3,601
345.42(b)(3) Reporting | Home mortgage loans—Large banks, if subject to reporting under part 203 (Home Mortgage Disclosure (HMDA)), shall, and Small banks may report the location of each home mortgage loan application, origination, or purchase outside the MSA in which the bank has a home/branch office | 357 | 253 | 90,321
345.42(d) Reporting | Data on affiliate lending—Banks that elect to have the FDIC consider loans by an affiliate, for purposes of the lending or community development test or an approved strategic plan, shall collect, maintain and report the data that the bank would have collected, maintained, and reported pursuant to § 345.42(a), (b), and (c) had the loans been originated or purchased by the bank. For home mortgage loans, the bank shall also be prepared to identify the home mortgage loans reported under HMDA | 311 | 38 | 11,818
345.42(e) Reporting | Data on lending by a consortium or a third party—Banks that elect to have the FDIC consider community development loans by a consortium or a third party, for purposes of the lending or community development tests or an approved strategic plan, shall report for those loans the data that the bank would have reported under § 345.42(b)(2) had the loans been originated or purchased by the bank | 103 | 17 | 1,751
345.42(g) Reporting | Assessment area data—Large banks shall and Small banks may collect and report to the FDIC a list for each assessment area showing the geographies within the area | 380 | 2 | 760
Total Reporting |  |  |  | 114,471
345.42(a) Recordkeeping | Small business/small farm loan register—Large banks shall and Small banks may collect and maintain certain data in machine-readable form | 380 | 219 | 83,220
345.42(c) Recordkeeping | Optional consumer loan data—All banks may collect and maintain in machine readable form certain data for consumer loans originated or purchased by a bank for consideration under the lending test | 10 | 26 | 3,260
345.42(c)(2) Recordkeeping | Other loan data—All banks optionally may provide other information concerning their lending performance, including additional loan distribution data | 103 | 25 | 2,575
Total Recordkeeping |  |  |  | 89,055
345.41(a) 345.43(a); (a)(1); (a)(2); (a)(3); (a)(4); (a)(5); (a)(6); (a)(7); (b)(1); (b)(2); (b)(3); (b)(4); (b)(5); (c); (d) Disclosure | Content and availability of public file—All banks shall maintain a public file that contains certain required information | 3,309 | 10 | 33,090
Total Disclosure |  |  |  | 33,090
Total Estimated Annual Burden |  |  |  | 236,616 hours

General Description of Collection: The Community Reinvestment Act regulation requires the FDIC to assess the record of banks and thrifts in helping meet the credit needs of their entire communities, including low- and moderate-income neighborhoods, consistent with safe and sound operations; and to take this record into account in evaluating applications for mergers, branches, and certain other corporate activities.

There is no change in the method or substance of the collection. The overall decrease in burden hours is a result of the decrease in the estimated number of respondents.

Request for Comment: Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on July 23, 2020.
James P. Sheesley,
Acting Assistant Executive Secretary.

[FR Doc. 2020-16392 Filed 7-28-20; 8:45 am]

BILLING CODE 6714-01-P